COUNCIL ON ENVIRONMENTAL QUALITY

[Docket No. CEQ-2019-0002]

RIN 0331-ZA03

Draft National Environmental Policy Act Guidance on Consideration of Greenhouse Gas Emissions

AGENCY: Council on Environmental Quality (CEQ).

ACTION: Draft guidance; extension of comment period.

SUMMARY: On June 26, 2019, the Council on Environmental Quality (CEQ) published draft guidance on how National Environmental Policy Act (NEPA) analysis and documentation should address greenhouse gas (GHG) emissions. The CEQ is extending the comment period on the draft guidance, which was scheduled to close on July 26, 2019, for 31 days until August 26, 2019. The CEQ is making this change in response to public requests for an extension of the comment period.

DATES: Comments should be submitted on or before August 26, 2019.

ADDRESSES: Submit your comments, identified by docket identification (ID) number CEQ-2019-0002 through the Federal eRulemaking portal at https://www.regulations.gov. Follow the online instructions for submitting comments. Once submitted, comments cannot be edited or removed from https://www.regulations.gov. CEQ may publish any comment received to its public docket. Do not submit electronically any information you consider to be Confidential Business Information (CBI) or other information whose disclosure is restricted by statute. Multimedia submissions (e.g., audio, video) must be accompanied by a written comment. The written comment is considered the official comment and should include discussion of all points you wish to make.

Comments may also be submitted by mail. Send your comments to: Council on Environmental Quality, 730 Jackson Place NW, Washington, DC 20503, Attn: Docket No. CEQ-2019-0002.

The draft guidance is also available on the CEQ websites at https://www.whitehouse.gov/ceq/initiatives/ and www.nepa.gov.

FOR FURTHER INFORMATION CONTACT: Edward A. Boling, Associate Director for the National Environmental Policy Act, Council on Environmental Quality, 730 Jackson Place NW, Washington, DC 20503. Telephone: (202) 395-5750.

SUPPLEMENTARY INFORMATION: On June 26, 2019, CEQ published “Draft National Environmental Policy Act Guidance on Consideration of Greenhouse Gas Emissions” in the Federal Register (84 FR 30097). The original deadline to submit comments was July 26, 2019. This action extends the comment period for 31 days to ensure the public has sufficient time to review and comment on the draft guidance. Written comments should be submitted on or before August 26, 2019.

(Authority: 42 U.S.C. 4332, 4342, 4344 and 40 CFR parts 1500, 1501, 1502, 1503, 1505, 1506, 1507, and 1508).

Mary B. Neumayr,
Chairman.

[FR Doc. 2019-15697 Filed 7-23-19; 8:45 am]

BILLING CODE 3225-F9-P